DEPARTMENT OF EDUCATION

Privacy Act of 1974; Computer Matching Program

AGENCY: Department of Education.

ACTION: Notice of renewal of the computer matching program between the U.S. Department of Education and the U.S. Department of Veterans Affairs.

SUMMARY: Pursuant to the Office of Management and Budget (OMB) Final Guidance Interpreting the Provisions of Public Law 100-503, the Computer Matching and Privacy Protection Act of 1988, notice is hereby given of the renewal of the computer matching program between the U.S. Department of Education (ED) (the recipient agency) and the U.S. Department of Veterans Affairs (VA) (the source agency). After the ED and VA Data Integrity Boards approve a new computer matching agreement, the computer matching program will begin on the effective date as specified in the agreement and as indicated in paragraph 5, below.

In accordance with the Privacy Act of 1974, (5 U.S.C. 552a), as amended, the OMB Final Guidance Interpreting the Provisions of Public Law 100-503, the Computer Matching and Privacy Protection Act of 1988 (54 FR 25818, June 19, 1989), and OMB Circular No. A-130, Appendix I (65 FR 77677, December 12, 2000), the following information is provided:

1. Names of Participating Agencies

The U.S. Department of Education and the U.S. Department of Veterans Affairs.

2. Purpose of the Match

The purpose of this matching program between ED and VA is to verify the veteran's status of applicants for financial assistance under Title IV of the Higher Education Act of 1965, as amended (HEA), who claim to be veterans.

The Secretary of Education is authorized by the HEA to administer the Title IV programs and to enforce the terms and conditions of the HEA.

Section 480(c)(1) of the HEA defines the term “veteran” to mean “any individual who (A) has engaged in the active duty in the United States Army, Navy, Air Force, Marines, or Coast Guard; and (B) was released under a condition other than dishonorable.” (20 U.S.C. 1087vv(c)(1)). Under section 480(d)(3) of the HEA, an applicant who is a veteran (as defined in section 480(c)(1)) is considered an independent student for purposes of Title IV, HEA program assistance eligibility, and therefore does not have to provide parental income and asset information to apply for Title IV, HEA program assistance. (20 U.S.C. 1087vv(d)(3)).

3. Authority for Conducting the Matching Program

ED is authorized to participate in the matching program under sections 480(c) and (d)(3) of the HEA (20 U.S.C. 1087vv(c)(1) and (d)(3)) and 5 U.S.C. 552a. The VA is authorized to participate in the matching program under 38 U.S.C. 523.

4. Categories of Records and Individuals Covered by the Match

ED will provide the Social Security Number and other identifying information of each applicant who indicates that he or she is a veteran. This information will be extracted from the Federal Student Aid Application File system of records (18-11-01), pursuant to routine use no. 16, as corrected by 66 FR 18758 (April 11, 2001). The ED data will be matched against the Veterans and Beneficiaries Identification and Records Location Subsystem-VA (38VA21), consistent with routine use no. 21, as added by 66 FR 30049-50 (June 4, 2001).

5. Effective Dates of the Matching Program

The matching program will become effective on (1) June 24, 2006, the day after the expiration of the current computer matching agreement (CMA); (2) thirty (30) days after this notice of the matching program has been published in the Federal Register; or (3) forty (40) days after a report concerning the matching program has been transmitted to the OMB and the Congress, whichever date occurs last. The matching program will continue for 18 months after the effective date and may be extended for an additional 12 months thereafter, if the conditions specified in 5 U.S.C. 552a(o)(2)(D) have been met.

6. Address for Receipt of Public Comments or Inquiries

Individuals wishing to comment on this matching program or obtain additional information about the program, including requesting a copy of the computer matching agreement between ED and VA, should contact Ms. Marya Dennis, Management and Program Analyst, U.S. Department of Education, 63H2 Union Center Plaza, 830 First Street, NE., Washington, DC 20202. Telephone: (202) 377-3385. If you use a telecommunications device for the deaf (TDD), you may call the Federal Relay Service (FRS) at 1-800-877-8339.

Individuals with disabilities may obtain this document in an alternative format (e.g., Braille, large print, audiotape or computer diskette) on request to the contact person listed in the preceding paragraph.

Electronic Access to the Document

You may view this document, as well as all other documents of this Department published in the Federal Register, in text or Adobe Portable Document Format (PDF) on the Internet at the following site: http://www.ed.gov/news/fedregister.

To use PDF you must have the Adobe Acrobat Reader, which is available free at this site. If you have questions about using PDF, call the U.S. Government Printing Office (GPO), toll free at 1-888-293-6498, or in the Washington, DC, area at (202) 512-1530.

Note: The official version of this document is the document published in the Federal Register. Free Internet access to the official edition of the Federal Register and Code of Federal Regulations is available on GPO access at: http://www.gpoaccess.gov/nara/index.html.

Dated: April 28, 2006.
Theresa S. Shaw,
Chief Operating Officer, Federal Student Aid.

[FR Doc. E6-6694 Filed 5-2-06; 8:45 am]

BILLING CODE 4000-01-P